OFFICE OF PERSONNEL MANAGEMENT

5 CFR Part 532

RIN 3206-AL76

Prevailing Rate Systems; Redefinition of the Little Rock, AR, Southern Missouri, and Tulsa, OK, Appropriated Fund Federal Wage System Wage Areas

AGENCY: U.S. Office of Personnel Management.

ACTION: Final rule.

SUMMARY: The U.S. Office of Personnel Management is issuing a final rule to redefine the geographic boundaries of the Little Rock, AR, Southern Missouri, and Tulsa, OK, appropriated fund Federal Wage System (FWS) wage areas. The final rule redefines Crawford and Sebastian Counties, AR, from the Little Rock wage area to the Tulsa wage area and Madison County, AR, and McDonald County, MO, from the Southern Missouri wage area to the Tulsa wage area. These changes are based on recent consensus recommendations of the Federal Prevailing Rate Advisory Committee (FPRAC) to best match the counties proposed for redefinition to a nearby FWS survey area. FPRAC recommended no other changes in the geographic definitions of the Little Rock, Southern Missouri, and Tulsa FWS wage areas.

DATES: Effective date: This regulation is effective on March 11, 2009. Applicability date: The affected employees in Crawford, Madison, and Sebastian Counties, AR, and McDonald County, MO, would be placed on the wage schedule for the Tulsa, OK, wage area on the first day of the first applicable pay period beginning on or after March 11, 2009.

FOR FURTHER INFORMATION CONTACT: Madeline Gonzalez, (202) 606-2838; e-mail pay-performance-policy@opm.gov; or FAX: (202) 606-4264.

SUPPLEMENTARY INFORMATION: On December 8, 2008, the U.S. Office of Personnel Management (OPM) issued a proposed rule (73 FR 74374) to redefine the Little Rock, AR, Southern Missouri, and Tulsa, OK, appropriated fund Federal Wage System wage areas. This proposed rule would redefine Crawford and Sebastian Counties, AR, from the Little Rock wage area to the Tulsa wage area and Madison County, AR, and McDonald County, MO, from the Southern Missouri wage area to the Tulsa wage area. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Kathie Ann Whipple,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of Arkansas is amended by revising the listing for Little Rock; for the State of Missouri, by revising the listing for Southern Missouri; and for the State of Oklahoma, by revising the listing for Tulsa, to read as follows:

Appendix C to Subpart B of Part 532—Appropriated Fund Wage and Survey Areas

| * * * * *
ARKANSAS
Little Rock
Survey Area
Arkansas:
Jefferson
Pulaski
Saline
Area of Application. Survey area plus:
Arkansas:
Arkansas
Ashley
Baxter
Boone
Bradley
Calhoun
Chicot
Clay
Clark
Cleburne
Cleveland
Conway
Dallas
Desha
Drew
Faulkner
Franklin
Fulton
Garland
Grant
Greene
Hot Spring
Independence
Izard
Jackson
Johnson
Lawrence
Lincoln
Logan
Lonoke
Marion
Monroe
Montgomery
Newton
Ouachita
Perry
Phillips
Pike
Polk
Pope
Prairie
Randolph
Scott
Searcy
Sharp
Stone
Union
Van Buren
White
Woodruff
Yell
| * * * * *
MISSOURI
| * * * * *
Southern Missouri
Survey Area
Missouri:
Christian
Greene
Laclede
Phelps
Pulaski
Webster
Area of Application. Survey area plus:
Missouri:
Barry
Barton
Benton
Bollinger
Butler
Camden
Cape Girardeau
Carter
Cedar
Dade
Dallas
Dent
Douglas
Hickory
Howell
Iron
Jasper
Lawrence
Madison
Maries
Miller
Mississippi
Moniteau
Morgan
New Madrid
Newton
Oregon
Ozark
Perry
Polk
Reynolds
Ripley
St. Clair
Scott
Shannon
Stoddard
Stone
Taney
Texas
Vernon
Wayne
Wright
Kansas:
Cherokee
Crawford
| * * * * *
OKLAHOMA
| * * * * *
Tulsa
Survey Area
Oklahoma:
Creek
Mayes
Muskogee
Osage
Pittsburg
Rogers
Tulsa
Wagoner
Area of Application. Survey area plus:
Oklahoma:
Adair
Cherokee
Choctaw
Craig
Delaware
Haskell
Kay
Latimer
Le Flore
McCurtain
McIntosh
Nowata
Okfuskee
Okmulgee
Ottawa
Pawnee
Pushmataha
Sequoyah
Washington
Arkansas:
Benton
Carroll
Crawford
Madison
Sebastian
Washington
Missouri:
McDonald
| * * * * *

[FR Doc. E9-2629 Filed 2-6-09; 8:45 am]

BILLING CODE 6325-39-P